DEPARTMENT OF AGRICULTURE

Rural Utilities Service

Oglethorpe Power Corporation; Notice of Finding of No Significant Impact

AGENCY: Rural Utilities Service, USDA.

ACTION: Notice of finding of no significant impact.

SUMMARY: Notice is hereby given that the Rural Utilities Service (RUS) has made a finding of no significant impact with respect to the construction and operation of a 652-megawatt, natural gas fired combustion turbine electric generation plant in Talbot County, Georgia. Oglethorpe Power Corporation proposes to be the agent to construct and operate the plant. RUS may provide financing for the plant to an entity made up of members of Oglethorpe Power Corporation. The specifics of that entity have yet to be determined.

FOR FURTHER INFORMATION CONTACT: Bob Quigel, Environmental Protection Specialist, Engineering and Environmental Staff, RUS, Stop 1571, 1400 Independence Avenue, SW., Washington, D.C. 20250-1571, telephone (202) 720-0468, e-mail at bquigel@rus.usda.gov.

SUPPLEMENTARY INFORMATION: Oglethorpe Power Corporation proposes to construct the plant at a site in Talbot County, Georgia. The site is near the junction of the Muscogee and Harris County lines in southwest Talbot County off Cartledge Road near Highway 80. The proposed site for the project will require approximately 25 acres for the generation facility and supporting structures and 11 acres for the on-site electric transmission lines. Five to six miles of natural gas pipeline requiring a 50-foot wide right-of-way will need to be constructed from the site north to tie the generation facility to Southern Natural Gas mainline. Additional land will be purchased and maintained intact with natural vegetation to provide a buffer zone between the plant and the existing environment.

The proposed plant will be made up of six 108-megawatt (nominal) Siemens V84.2 natural gas fired, simple cycle combustion turbines. The turbines could be retrofitted at a later date so they could be fired by fuel oil. The major generation equipment will consist of the combustion turbines and generators, equipment modules, and step-up transformers. Each combustion turbine package will have an inlet air filter, weather enclosure, 90-foot exhaust stack, fuel system, lubrication and hydraulic systems, control panel, and fire protection system.

Copies of the Finding of No Significant Impact are available from RUS at the address provided herein or from Mr. Greg Jones of Oglethorpe Power Corporation, PO Box 1349, Tucker, Georgia 30085-1349, (800) 241-5374 x7890; greg.jones@opc.com. Copies of the environmental assessment are available for review at Oglethorpe Power Corporation and RUS at the addresses provided herein.

Dated: April 2, 2001.
Blaine D. Stockton,
Assistant Administrator, Electric Program.

[FR Doc. 01-8645 Filed 4-6-01; 8:45 am]

BILLING CODE 3410-15-P